DEPARTMENT OF HEALTH AND HUMAN SERVICES

National Institutes of Health

Center for Scientific Review; Cancellation of Meeting

Notice is hereby given of the cancellation of the Center for Scientific Review Special Emphasis Panel, June 28, 2011, 8 a.m. to June 29, 2011, 3 p.m., National Institutes of Health, 6701 Rockledge Drive, Bethesda, MD, 20892 which was published in the Federal Register on May 23, 2011, 76 FR 29770-29771.

The meeting is cancelled due to the reassignment of the applications.

Dated: June 8, 2011.
Jennifer S. Spaeth,
Director, Office of Federal Advisory Committee Policy.

[FR Doc. 2011-14690 Filed 6-13-11; 8:45 am]

BILLING CODE 4140-01-P